DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Times: December 11, 2006, 9 a.m.-5 p.m. December 12, 2006, 7:30 a.m.-3 p.m.

Place: The Madison Hotel, 1177 15th Street, NW., Washington, DC 20005.

Status: The meeting will be open to the public.

Agenda: Agency and Bureau administrative updates will be provided. The purpose of the meeting will be to discuss the role of nursing in developing surge capacity, with a series of panel discussions relating to the nursing workforce, integration of health information technology, providing care to special populations, and integrating surge capacity into the nursing curriculum. Representatives from the Department of Health and Human Services, Department of Homeland Security, Centers for Disease Control and Prevention, Department of Veteran's Affairs, American Hospital Association, INOVA Health Systems, and American Red Cross will be presenting. During this meeting, Council workgroups will deliberate on content presented and formulate recommendations to the Secretary of Health and Human Services and the Congress on role of nursing in developing surge capacity. This meeting will form the basis for NACNEP's mandated Seventh Annual Report.

For Further Information Contact: Anyone interested in obtaining a roster of members, minutes of the meeting, or other relevant information should write or contact Dr. Joan Weiss, Executive Secretary, National Advisory Council on Nurse Education and Practice, Parklawn Building, Room 9-35, 5600 Fishers Lane, Rockville, Maryland 20857, telephone (301) 443-5688.

Dated: November 29, 2006.
Caroline Lewis,
Acting Associate Administrator for Administration and Financial Management.

[FR Doc. E6-20532 Filed 12-4-06; 8:45 am]

BILLING CODE 4165-15-P